DEPARTMENT OF AGRICULTURE

Forest Service

Revision of the Land Management Plan for the Chugach National Forest

AGENCY: Forest Service, USDA.

ACTION: Notice of approval of the Revised Land Management Plan for Chugach National Forest.

SUMMARY: Jeff E. Schramm, the Forest Supervisor for the Chugach National Forest, Alaska Region, has signed the Record of Decision (ROD) for the Revised Land Management Plan (Land Management Plan) for the Chugach National Forest. The ROD documents the rationale for approving the Land Management Plan and is consistent with the Objection Review Official's response to objections and instructions.

DATES: The Revised Land Management Plan for the Chugach National Forest will become applicable May 18, 2020 (36 CFR 219.17(a)(1)). To view the final ROD, final environmental impact statement (FEIS), the Revised Land Management Plan, and other related documents, please visit the Chugach National Forest Revision project website at: https://www.fs.usda.gov/project/?project=40816. A legal notice of approval is also being published in Chugach National Forest's newspaper of record, the Anchorage Daily News. A copy of this legal notice will be posted on the website listed above.

FOR FURTHER INFORMATION CONTACT: David Fitz-Enz, Forest Planner, Chugach National Forest at 907-743-9595 or david.fitz-enz@usda.com. Individuals who use telecommunication devices for the deaf (TDD) may call the Federal Information Relay Service (FIRS) at 1-800-877-8339 between 8:00 a.m. and 8:00 p.m., Eastern Time, Monday through Friday. Written requests for information may be sent to the Chugach National Forest, ATTN. David Fitz-Enz, Chugach National Forest Supervisor's Office, 161 E 1st Ave., Door 8, Anchorage, AK 99501.

SUPPLEMENTARY INFORMATION: The Forest encompasses 5.4 million acres in Southcentral Alaska and includes a 1.9-million-acre Wilderness Study Area (WSA). Inventoried roadless areas comprise 99% of the Chugach National Forest. Glaciers cover 30% of the Chugach National Forest and 20% is forested. From its largely intact ecosystems, the Chugach National Forest plays a key role in supporting local economies with abundant populations of Pacific salmon and wildlife, forest products, fuelwood, diverse recreation opportunities, mining, subsistence, and clean air and water. Between its contributions to commercial salmon harvests, recreation opportunities, fishing, hunting, and special use authorizations, the Forest generates over 4,000 jobs, worth approximately $36 million to local economies annually.

Since 2012, the Chugach National Forest has worked with Alaska Native Tribes, Alaska Native Corporations, the State of Alaska, local communities, and the public to develop a plan that supports local economies, reduces community wildfire risk, supports adaptive management, and prioritizes ecosystem health and resilience to stressors such as drought and climate variability. The Land Management Plan fosters collaborative relationships, facilitates special use permitting, assures access, emphasizes hazardous fuels management, maintains properly functioning watersheds, supports subsistence and traditional uses, identifies 1.4 million acres to recommend for inclusion in the National Wilderness Preservation System within the WSA, carries forward the 2002 National Wild and Scenic Rivers System recommendation, and provides for the viability and persistence of two species of conservation concern within the planning area.

The Chugach National Forest released its FEIS, 2019 Land Management Plan, and draft ROD on August 30, 2019. The 60-day objection period ended on October 29, 2019. The Forest Service received 43 eligible objections. The Objection Review Official issued his written responses to the objection issues on January 27, 2020. The Regional Forester (Objection Review Official) provided the Forest Supervisor with instruction to add rationale in errata to the FEIS or final ROD, define and describe actions more clearly in the Land Management Plan and ROD, and remove and modify some plan components in the Land Management Plan.

As instructed by the Objection Review Official, the Forest modified the FEIS (through errata in the ROD), the Land Management Plan, the ROD, and the planning record. All modifications are completed and are responsive to issues the public identified, particularly issues identified by the State of Alaska, Alaska Native Tribes, and Alaska Native Corporations. Modifications include deleting, editing, and adding plan components and clarifying language in the FEIS, Land Management Plan, and ROD.

The final ROD to approve the Revised Land Management Plan for Chugach National Forest has now been signed by the Responsible Official and is available at the website listed above.

Responsible Official

The responsible official for the revision of the Land Management Plan for the Chugach National Forest is Jeff E. Schramm, the Forest Supervisor, Chugach National Forest, 161 E 1st Ave., Door 8, Anchorage, AK 99501.

Allen Rowley,
Associate Deputy Chief, National Forest System.

[FR Doc. 2020-07965 Filed 4-15-20; 8:45 am]

BILLING CODE 3411-15-P